DEPARTMENT OF COMMERCE

National Oceanic and Atmospheric Administration

RIN 0648-XG573

Endangered and Threatened Species; Recovery Plans

AGENCY: National Marine Fisheries Service (NMFS), National Oceanic and Atmospheric Administration, Commerce.

ACTION: Notice of availability; request for comments.

SUMMARY: We, NMFS, announce that the Proposed Endangered Species Act (ESA) Recovery Plan for Puget Sound Steelhead (Proposed Plan) is available for public review and comment. The Proposed Plan addresses the Puget Sound Steelhead (Onchorhynchus mykiss) Distinct Population Segment (DPS), which was listed as threatened under the ESA on May 11, 2007. As required under the ESA, the Proposed Plan contains objective, measurable delisting criteria, site-specific management actions necessary to achieve the Proposed Plan's goals, and estimates of the time and cost required to implement recovery actions. We are soliciting review and comment from the public and all interested parties on the Proposed Plan.

DATES: Comments on the Proposed Plan must be received by February 11, 2019.

ADDRESSES: You may submit comments on the Proposed Plan, identified by NOAA-NMFS-2018-0125, by either of the following methods:

• Electronic Submission: Submit all electronic public comments on the Proposed Plan via the Federal eRulemaking Portal. Go to www.regulations.gov/#!docketDetail;D= NOAA-NMFS-2018-0125. Click the “Comment Now!” icon, complete the required fields, and enter or attach your comments.

• Mail: Submit written comments on the Proposed Plan to David Price, National Marine Fisheries Service, 510 Desmond Dr. SE, Lacey, WA 98503.

Instructions: Comments or information sent by any other method, to any other address or individual, or received after the end of the comment period, may not be considered by NMFS. All comments and information received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous.

The Proposed Plan is available online at www.regulations.gov/#!docketDetail;D= NOAA-NMFS-2018-0125 or upon request from the NMFS West Coast Region, Protected Resources Division (see ADDRESSES or FOR FURTHER INFORMATION CONTACT).

FOR FURTHER INFORMATION CONTACT: David Price, (360) 753-9598, david.price@noaa.gov; or Elizabeth Babcock, (206) 526-4505, elizabeth.babcock@noaa.gov.

SUPPLEMENTARY INFORMATION:

Background

We are responsible for developing and implementing recovery plans for Pacific salmon and steelhead listed under the ESA of 1973, as amended (16 U.S.C. 1531 et seq.). Section 4(f)(1) of the ESA requires that recovery plans include, to the extent practicable: (1) Objective, measurable criteria which, when met, would result in a determination that the species is no longer threatened or endangered; (2) site-specific management actions necessary to achieve the plan's goals; and (3) estimates of the time required and costs to implement recovery actions. The ESA requires the development of recovery plans for each listed species unless such a plan would not promote its recovery.

We believe it is essential to have local support of recovery plans by those whose activities directly affect the listed species and whose continued commitment and leadership will be needed to implement the necessary recovery actions. We therefore support and participate in collaborative efforts to develop recovery plans that involve state, tribal, and Federal entities, local communities, and other stakeholders. For this Proposed Plan for threatened Puget Sound Steelhead, we worked collaboratively with local, state, tribal, and Federal partners to produce a recovery plan that satisfies the ESA requirements. We have determined that this Proposed ESA Recovery Plan for Puget Sound Steelhead meets the statutory requirements for a recovery plan and are proposing to adopt it as the ESA recovery plan for this threatened species. Section 4(f) of the ESA, as amended in 1988, requires that public notice and an opportunity for public review and comment be provided prior to final approval of a recovery plan. This notice solicits comments on this Proposed Plan.

Development of the Proposed Plan

The geographic area covered by the Proposed Plan is the Puget Sound basin, from the Elwha River (inclusive) eastward, including rivers in Hood Canal, South Sound, and North Sound, including steelhead from six artificial propagation programs: The Green River Natural Program; White River Winter Steelhead Supplementation Program; Hood Canal Steelhead Supplementation Off-station Projects in the Dewatto, Skokomish, and Duckabush Rivers; and the Lower Elwha Fish Hatchery Wild Steelhead Recovery Program.

For the purpose of recovery planning for the ESA-listed species of Pacific salmon and steelhead in Idaho, Oregon, and Washington, NMFS designated five geographically based “recovery domains.” The Puget Sound Steelhead DPS spawning range is in the Puget Sound domain. For each domain, NMFS appointed a team of scientists, nominated for their geographic and species expertise, to provide a solid scientific foundation for recovery plans. The Puget Sound Steelhead Technical Recovery Team included biologists from NMFS, other Federal agencies, state agencies, tribes, and academic institutions.

A primary task for the Puget Sound Steelhead Technical Recovery Team was to recommend criteria for determining when each component population within a DPS or Evolutionarily Significant Unit (ESU) should be considered viable (i.e., when they are have a low risk of extinction over a 100-year period) and when ESUs or DPSs have a risk of extinction consistent with no longer needing the protections of the ESA. All NMFS' Technical Recovery Teams used the same biological principles for developing their recommendations; these principles are described in the NOAA technical memorandum Viable Salmonid Populations and the Recovery of Evolutionarily Significant Units (McElhany et al. 2000). Viable salmonid populations (VSP) are defined in terms of four parameters: Abundance, productivity or growth rate, spatial structure, and diversity.

We also collaborated with the state of Washington, tribes, other Federal agencies, local governments, representatives of industry and environmental groups, other stakeholders, and the public to develop the Proposed Plan. The Plan for the Puget Sound steelhead DPS was developed by NMFS in cooperation with a Recovery Team made up of experts from the Washington Department of Fish and Wildlife, Northwest Indian Fisheries Commission, Nooksack Tribe, Seattle Light, Long Live the Kings, Puget Sound Partnership, and NMFS Northwest Fisheries Science Center. These groups provided vital input during the planning process, and their continued involvement during recovery plan implementation is critical to the success of our joint efforts to recover Puget Sound steelhead.

Contents of Proposed Plan

The Proposed Plan contains biological background and contextual information that includes description of the DPS, the planning area, and the context of the plan's development. It presents relevant information on DPS structure and guidelines for assessing salmonid population and DPS status. It provides background on the natural history of steelhead, population status, and threats to their sustainability.

The Puget Sound steelhead DPS consists of three Major Population Groups (MPGs) and 32 Demographically Independent Populations (DIPs). NMFS based its decision to list the species in 2007 on findings by the Puget Sound Steelhead Biological Review Team (Hard et al. 2007). This team considered the major risk factors facing Puget Sound steelhead to be widespread declines in abundance and productivity for most natural steelhead populations in the DPS, including those in Skagit and Snohomish Rivers, previously considered strongholds for steelhead in the DPS; the low abundance of several summer-run populations; and the sharply diminishing abundance of some steelhead populations, especially in south Puget Sound, Hood Canal, and the Strait of Juan de Fuca. Continued releases of out-of-DPS hatchery fish from Skamania-derived summer run were a major concern for diversity in the DPS. In 2011, eight years after the ESA-listing decision, a status assessment of the DPS by NMFS' Biological Review Team found that the status of Puget Sound steelhead regarding risk of extinction had not changed (NMFS 2016; 81 FR 33468; May 26, 2016). Scientists on the Biological Review Team identified degradation and fragmentation of freshwater habitat, with consequential effects on connectivity, as the primary limiting factors and threats facing the Puget Sound steelhead DPS. They determined that most of the steelhead populations within the DPS continued to show downward trends in estimated abundance, with a few sharp declines (Ford 2011). Most recently, a NMFS species status review (NMFS 2016) concluded that “The biological risks faced by the Puget Sound steelhead DPS have not substantively changed since the listing in 2007, or since the 2011 status review.” The NMFS review team concluded that the DPS was at very low viability, as were all three of its constituent MPGs, and many of its 32 DIPs (Hard et al. 2015).

The Proposed Plan presents NMFS' proposed recovery goals and the viability criteria and listing factor criteria for making a delisting decision. The proposed viability criteria for the Puget Sound steelhead DPS are designed to improve the DPS so it “has a negligible risk of extinction due to threats from demographic variation, local environmental variation, and genetic diversity changes over a 100-year time frame” based on the status of the MPGs and DIPs, and supporting ecosystems (McElhany et al. 2000). A self-sustaining viable population has a negligible risk of extinction due to reasonably foreseeable changes in circumstances affecting its abundance, productivity, spatial structure, and diversity characteristics and achieves these characteristics without dependence upon artificial propagation. The proposed viability criteria for Puget Sound steelhead require that all three MPGs be viable because the three MPGs differ substantially in key biological and habitat characteristics that contribute in distinct ways to the overall viability, diversity and spatial structure of the DPS.

The proposed listing factor criteria are based on the five listing factors found in the ESA section 4(a)(1). Before NMFS can remove the DPS from protection under the ESA, the factors that led to ESA listing need to have been reduced or eliminated to the point where Federal protection under the ESA is no longer needed, and there is reasonable certainty that the relevant regulatory mechanisms are adequate to protect Puget Sound steelhead viability. NMFS listing factor criteria for Puget Sound steelhead address pressures from freshwater habitat degradation, hatcheries, and other factors that led to the species listing and continue to affect its viability.

The Proposed Plan also describes specific information on the following: Current status of Puget Sound steelhead; pressures (limiting factors) and threats throughout the life cycle that have contributed to the species decline; recovery strategies to address the threats based on the best available science; site-specific actions with timelines; and a proposed adaptive management framework for focusing needed research and evaluations and revising our recovery strategies and actions. The Proposed Plan also summarizes time and costs required to implement recovery actions.

How NMFS and Others Expect To Use the Plan

With approval of the final Puget Sound Steelhead recovery plan, we will implement the actions in the plan for which we have authority and funding; encourage other Federal, state and local agencies and tribal governments to implement recovery actions for which they have responsibility, authority, and funding; and work cooperatively with tribes, the public and local stakeholders on implementation of other actions. We expect the recovery plan to guide us and other Federal agencies in evaluating Federal actions under ESA section 7, as well as in implementing other provisions of the ESA and other statutes. For example, the plan will provide greater biological context for evaluating the effects that a proposed action may have on the species by providing delisting criteria, information on priority areas for addressing specific limiting factors, and information on how the DPS can tolerate varying levels of risk.

When we are considering a species for delisting, the agency will examine whether the section 4(a)(1) listing factors have been addressed. To assist in this examination, we will use the delisting criteria described in Chapter 4 of the Proposed Plan, which include both viability criteria and listing factor criteria addressing each of the ESA section 4(a)(1) listing factors, as well as any other relevant data and policy considerations.

Public Comments Solicited

We are soliciting written comments on the Proposed Plan. All substantive comments received by the date specified above will be considered and incorporated, as appropriate, prior to our decision whether to approve the plan. While we invite comments on all aspects of the Proposed Plan, we are particularly interested in comments on the proposed strategies and actions, comments on the cost of recovery actions, and comments on establishing an appropriate implementation forum for the plan. We will issue a news release announcing the adoption and availability of the final plan. We will post on the NMFS West Coast Region website (www.wcr.noaa.gov) a summary of, and responses to, the comments received, along with electronic copies of the final plan and its appendices.

Literature Cited

The complete citations for the references used in this document can be obtained by contacting NMFS (see ADDRESSES and FOR FURTHER INFORMATION CONTACT).

Authority: 16 U.S.C. 1531 et seq.

Dated: December 6, 2018.
Donna S. Wieting,
Director, Office of Protected Resources, National Marine Fisheries Service.

[FR Doc. 2018-27003 Filed 12-12-18; 8:45 am]

BILLING CODE 3510-22-P